DEPARTMENT OF ENERGY

Federal Energy Regulatory Commission

[Project No. 199-212]

Herbert Butler, et al., Complainants, v. South Carolina Public Service Authority, Respondent; Notice of Complaint

March 10, 2006.

Take notice that on February 21, 2006, Herbert Butler, et al. (Complainants) filed with the Federal Regulatory Commission (Commission) a complaint against South Carolina Public Service Authority (Respondent), licensee of the Santee Cooper Project No. 199. Complainants allege that Respondent has and continues to operate the project in violation of its license so as to cause unnecessary floods on the Petitioners' land. They have asked the Commission to investigate and to stop Respondent from its continuing violations of its license.

Respondent's answer to the complaint and all comments, protests, and motions to intervene from any other person desiring to be heard on this matter must be filed with the Commission's Secretary at 888 First Street, NE., Washington, DC 20426, on or before the date shown below. Protests will be considered by the Commission in determining the appropriate action to be taken, but will not serve to make protestants parties to the proceeding. Any person wishing to become a party must file a motion to intervene. The Respondent's answer and all interventions, or protests must be filed on or before the comment date. The Respondent's answer, motions to intervene, and protests must be served on the Complainants.

The Commission encourages electronic submission of comments, protests and interventions in lieu of paper using the “eFiling” link at http://www.ferc.gov. Persons unable to file electronically should submit an original and 8 copies of the comment, protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on March 31, 2006.

Magalie R. Salas,
Secretary.

[FR Doc. E6-3881 Filed 3-16-06; 8:45 am]

BILLING CODE 6717-01-P